ELECTION ASSISTANCE COMMISSION

Sunshine Act Meeting; Public Hearing: The VVSG 2.0 Requirements Hearing 2: Implementation of the VVSG at the State and Local Level

AGENCY: United States Election Assistance Commission.

ACTION: Notice of public hearing agenda.

DATES: Wednesday, May 6, 2020 1:30-3:30 p.m. Eastern.

ADDRESSES: Livestream on the U.S. Election Assistance YouTube channel: https://www.youtube.com/channel/UCpN6i0g2rlF4ITWhwvBwwZw.

FOR FURTHER INFORMATION CONTACT: Jerome Lovato, Telephone: (301) 960-1216, Email: jlovato@eac.gov.

SUPPLEMENTARY INFORMATION:

Status

This hearing will be open to the public.

Agenda

EAC Commissioners will hold a virtual hearing to discuss the proposed Voluntary Voting System Guidelines (VVSG) 2.0 Requirements as submitted by the Technical Guidelines Development Committee (TGDC). This second hearing will focus on how state and local election offices utilize the VVSG program, and how the VVSG program supports state and local efforts. The hearing will also include a discussion on the questions around accessibility and security regarding the VVSG program, including how to balance the issues at hand while ensuring accessibility and security.

Commissioners will also hear from members of the public who wish to offer verbal testimony on the VVSG 2.0 requirements. Public testimony during the hearing will be limited to 5 minutes maximum per person. If you would like to participate in public testimony, please contact Jerome Lovato (jlovato@eac.gov) with your full name and phone number no later than 11:30 a.m. Eastern Time on May 6, 2020.

The VVSG 2.0 Requirements are currently published for a 90-day public comment period that concludes on June 22nd. The first VVSG public hearing on March 27, 2020 covered an introduction to the VVSG process as well a high-level overview of the proposed VVSG 2.0 requirements. A recording of the hearing is available on the EAC's website: https://www.eac.gov/events/2020/03/27/eac-virtual-public-hearing-introduction-and-foundation-vvsg-20-requirements.

The TGDC unanimously approved to recommend VVSG 2.0 Requirements on February 7, 2020, and sent the Requirements to the EAC Acting Executive Director via the Director of the National Institute of Standards and Technology (NIST), in the capacity of the Chair of the TGDC on March 9, 2020. Upon adoption, the VVSG 2.0 would become the fifth iteration of national level voting system standards. The Federal Election Commission published the first two sets of federal standards in 1990 and 2002. The EAC then adopted Version 1.0 of the VVSG on December 13, 2005. In an effort to update and improve version 1.0 of the VVSG, on March 31, 2015, the EAC commissioners unanimously approved VVSG 1.1.

Amanda Joiner,
Associate Counsel, U.S. Election Assistance Commission.

[FR Doc. 2020-09344 Filed 4-28-20; 4:15 pm]

BILLING CODE P